DEPARTMENT OF TRANSPORTATION

National Highway Traffic Safety Administration

[Docket No. NHTSA-99-5735; Notice 2]

Decision That Nonconforming 1993-1994 Volkswagen EuroVan Multi-Purpose Passenger Vehicles Are Eligible for Importation

AGENCY: National Highway Traffic Safety Administration (NHTSA), DOT.

ACTION: Notice of decision by NHTSA that nonconforming 1993-1994 Volkswagen EuroVan multi-purpose passenger vehicles (MPVs) are eligible for importation.

SUMMARY: This notice announces the decision by NHTSA that 1993-1994 Volkswagen EuroVan MPVs not originally manufactured to comply with all applicable Federal motor vehicle safety standards are eligible for importation into the United States because they are substantially similar to vehicles originally manufactured for importation into and sale in the United States and certified by their manufacturer as complying with the safety standards (the U.S. certified version of the 1993-1994 Volkswagen EuroVan), and they are capable of being readily altered to conform to the standards.

DATES: This decision is effective August 28, 2000.

FOR FURTHER INFORMATION CONTACT: George Entwistle, Office of Vehicle Safety Compliance, NHTSA (202-366-5306).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Motors of Kingsville, Maryland (“J.K.”) (Registered Importer 90-006) petitioned NHTSA to decide whether 1993-1995 Volkswagen EuroVan MPVs are eligible for importation into the United States. NHTSA published notice of the petition on June 3, 1999 (64 FR 29940) to afford an opportunity for public comment. The reader is referred to that notice for a thorough description of the petition.

One comment was received in response to the notice of the petition, from Volkswagen of America, Inc. (“Volkswagen”), the United States representative of Volkswagen AG, the vehicles' manufacturer. In this comment, Volkswagen observed that modifications beyond those described in the petition would have to be performed to conform a non-U.S. certified EuroVan MPV to Standard No. 114, Theft Protection. Volkswagen specifically noted that in addition to the installation of a warning buzzer for the ignition key, a transmission to ignition key interlock system must be installed. Volkswagen stated that this requires a new ignition lock and a relay switch mechanism with a plunger lock for the transmission lockout at the transmission shifter.

Volkswagen also stated that the modifications identified in the petition to conform a non-U.S. certified EuroVan MPV to Standard No. 208, Occupant Crash Protection, would be appropriate only for vehicles produced up to September 1, 1994, the date on which the standard's automatic restraint requirements began to be phased in for MPVs. Volkswagen further observed that it sold factory production EuroVan MPVs in the U.S. market in the 1993 and 1994 model years, but that in the 1995 and 1996 model years, the vehicle was only available in a multistage camper version that was not subject to the automatic restraint phase-in requirements. Because the vehicles identified in the petition are not the multistage camper version of the EuroVan MPV, Volkswagen contended that all such vehicles produced after September 1, 1994 would have to comply with the automatic restraint requirement through the installation of an air bag system. Volkswagen stated that such a system was not available in the vehicles that it produced for the 1995 model year. Volkswagen contended that the installation of such a system would require significant additions and alterations to the vehicle, including a new steering column and steering wheel for the driver side and a different instrument panel with welded attachment structures and brackets for installing the instrument panel into the vehicle. Volkswagen observed that the air bag control module is mounted at the tunnel area to support brackets welded to the vehicle structure. Because the control module contains the system sensor, Volkswagen asserted that the procedure by which it is installed is critical to system performance. Volkswagen further observed that a knee impact bar would also have to be installed in the vehicles to comply with the unbelted crash test requirements of the standard. Given the complexity of these modifications, and the welding that would be required to install the air bag system, Volkswagen expressed significant concern that the vehicles could be readily altered to comply with the standard.

NHTSA accorded J.K. an opportunity to respond to Volkswagen's comment. To address the Standard No. 114 compliance issues raised by Volkswagen, J.K. stated that a key warning system will be added to the vehicles, and a new ignition lock and a relay switch mechanism with a plunger lock for the transmission lockout at the transmission shifter. To address the Standard 208 issues raised by Volkswagen, J.K. requested that 1995 model year vehicles be dropped from its petition.

NHTSA believes that J.K.'s decision to drop 1995 model year vehicles from its petition fully addresses the Standard No. 208 compliance issues raised by Volkswagen. NHTSA further notes that the modifications described by J.K. to achieve compliance with Standard No. 114, which have been performed with relative ease on thousands of motor vehicles imported over the years, would not preclude non-U.S. certified 1993-1994 Volkswagen EuroVan MPVs from being found “capable of being readily altered to comply with applicable motor vehicle safety standards.” Accordingly, NHTSA has decided to grant the petition.

Vehicle Eligibility Number for Subject Vehicles

The importer of a vehicle admissible under any final decision must indicate on the form HS-7 accompanying entry the appropriate vehicle eligibility number indicating that the vehicle is eligible for entry. VSP-306 is the vehicle eligibility number assigned to vehicles admissible under this notice of final decision.

Final Decision

Accordingly, on the basis of the foregoing, NHTSA hereby decides that 1993-1994 Volkswagen EuroVan MPVs not originally manufactured to comply with all applicable Federal motor vehicle safety standards are substantially similar to 1993-1994 Volkswagen EuroVan MPVs originally manufactured for importation into and sale in the United States and certified under 49 U.S.C. 30115, and are capable of being readily altered to conform to all applicable Federal motor vehicle safety standards.

Authority: 49 U.S.C. 30141(a)(1)(A) and (b)(1); 49 CFR 593.8; delegations of authority at 49 CFR 1.50 and 501.8.

Issued on: August 23, 2000.
Marilynne Jacobs,
Director, Office of Vehicle Safety Compliance.

[FR Doc. 00-21925 Filed 8-25-00; 8:45 am]

BILLING CODE 4910-59-P